Proclamation 8656 of April 15, 2011

National Park Week, 2011

By the President of the United States of America

A Proclamation

Every day, America’s national parks—from the smallest historic sites to the largest natural spaces—contribute to our Nation’s collective health and spirit. These places preserve our unique history and iconic symbols. They protect ecosystems and serve as reservoirs of biodiversity. They are sources of natural sounds, clean water, and fresh air. Our parks provide accessible, safe, and affordable places to appreciate the bounty of our land. They offer opportunities for wholesome outdoor recreation, which can improve the health and vitality of all Americans.

In no place is America’s natural and historic legacy more evident than our extraordinary collection of 394 national parks. “Healthy Parks, Healthy People,” the focus for this year’s National Park Week, highlights the role of public lands—whether an iconic national park or a local green space—in connecting human and environmental well-being. To encourage citizens to spend time in national parks, all entrance fees will be waived during National Park Week. All Americans can visit www.NPS.gov to find nearby parks where history can be discovered and nature explored.

America is fortunate to have a long history of conservation pioneers, like President Theodore Roosevelt, who understood the value of protecting our most precious landscapes. My Administration is building on this legacy with the America’s Great Outdoors Initiative, designed to create a 21st-century conservation ethic and reconnect Americans with our natural, cultural, and historic heritage. We are working to ensure more American children have access to safe and clean parks and open spaces close to their homes. We will better support the farmers, ranchers, and private landowners that help protect rural landscapes and we will manage our public lands and waters with a renewed commitment to sound stewardship and resilience. As part of this responsibility, Federal agencies are also partnering with the First Lady’s “Let’s Move!” initiative on “Let’s Move Outside!,” a program that connects young people and their families to the outdoors to encourage healthy recreation.

The National Park Service, with 84 million acres of land and 17,000 miles of trails, works with environmental groups, scientists, business innovators, and health-care providers to promote physical activity in parks. Every Federal dollar invested in our national parks generates benefits for State and local economies. Beyond park boundaries, the National Park Service’s Rivers, Trails, and Conservation Assistance Program works with communities to create and enhance local parks, revitalize rivers, preserve valuable open spaces, and develop trail and greenway networks that provide close-to-home outdoor opportunities for everyone—from children to seniors—to get outside, get healthy, and have fun.

During National Park Week, we reaffirm our need to maintain connections to the natural world. Whether on the open range or in the heart of a bustling city, each of us can work to conserve our lands and reinforce the importance of setting aside beautiful places for inspiration, relaxation, and recreation for all people.

NOW, THEREFORE, I, BARACK OBAMA, President of the United States of America, by virtue of the authority vested in me by the Constitution and the laws of the United States, do hereby proclaim April 16 through April 24, 2011, as National Park Week. I encourage all Americans to visit their national parks and be reminded of these unique blessings we share as a Nation.

IN WITNESS WHEREOF, I have hereunto set my hand this fifteenth day of April, in the year of our Lord two thousand eleven, and of the Independence of the United States of America the two hundred and thirty-fifth.

[FR Doc. 2011-9730

Filed 4-19-11; 8:45 am]

Billing code 3195-W1-P